DEPARTMENT OF JUSTICE

Notice of Filing of Environmental Bankruptcy Settlement in In re Fansteel, Inc. et al.

Notice is hereby given that a proposed settlement entered into by the United States, on behalf of the Environmental Protection Agency (“EPA”), the Department of the Navy (“Navy”), the Department of the Interior (“DOI”) and the National Oceanic and Atmospheric Administration (“NOAA”), and Fansteel, Inc. (“Debtor”) was filed on September 18, 2003, in In re Fansteel, Inc. et al., No. 02-10109 (Bank. D. Del.) with the United States Bankruptcy Court for the District of Delaware. The proposed settlement is contained in Article XIII(C) of the Debtor's proposed Plan of Reorganization (“Plan”) and would resolve certain claims of the United States against the settling party under the Comprehensive Environmental Response Compensation and Liability Act (“CERCLA”) 42 U.S.C. 9601 et seq., relating to the following locations: (1) The Vulcan Louisville Smelter Site/Vacant Lot Site (“Vacant Lot Site”); (2) Pettibone Creek; and (3) the Naval Station Great Lakes including the boat basin, inner harbor, and the outer harbor (“NAVSTA Great Lakes”) all in North Chicago, Lake County, Illinois.

Under the settlement, Reorganized Fansteel will contribute $1,600,000 to North Chicago, Inc. (“NCI”), a wholly-owned subsidiary of Fansteel created under the Plan, to perform the response action selected by the EPA (“North Chicago Response Action”) at the real property owned by Fansteel, which is a portion of the Vacant Lot Site (“North Chicago Facility”). The Department of Defense, the General Services Administration, the Department of Commerce, and the Department of Treasury (“Federal Settling Agencies”) will contribute $425,000, which funds will be used, if necessary, by NCI, with EPA oversight, to clean up the North Chicago Facility following NCI's expenditure of the $1,600,000. If the above is not sufficient, Reorganized Fansteel will contribute an amount of up to an additional $500,000 to complete the North Chicago Response Action. In the event that the City of North Chicago, Illinois (“City”) exercises eminent domain with respect to the North Chicago Facility before the cleanup is commenced, Reorganized Fansteel and the City will contribute the requisite funds to perform the North Chicago Response Action.

In addition, the EPA, Navy, DOI, and NOAA are granted an allowed unsecured claim in the amount of $10,000,000, on account of which they will receive a distribution of (1) Available General Unsecured Cash in the amount of $100,000 (to be allocated among the Navy, NOAA, and the DOI only) and (2) 50% of certain insurance proceeds received by Reorganized Fansteel. The proposed settlement would be implemented through a Consent Decree in conformance with the settlement terms described in the proposed Plan. The Plan also grants the EPA allowed general unsecured claims related to the Old Southington Superfund Site in Southington, Connecticut; the PCB Treatment Inc. Superfund Site in Kansas City, Kansas and Kansas City, Missouri; the Li Tungsten Superfund Site in Glen Cove, New York; and the Operating Industries, Inc. Superfund Site in Monterey Park, California.

The hearing on whether to confirm the Plan is set for November 17, 2003. Comments relating to the proposed settlement must be received by the Department of Justice by close of business November 14, 2003. Comments may be addressed to the Assistant Attorney General of the Environment and Natural Resources Division, Department of Justice and sent by any of the following methods: (1) Telefax or e-mail to Richard Gladstein (richard.gladstein@usdoj.gov), fax no. (202) 514-8395, phone confirmation number (202) 514-1711; or (2) first class mail to P.O. Box 7611, Ben Franklin Station, Washington, DC 20044, and should refer to In re Fansteel, et al., D.J. Ref. No. 90-10-07797/1. Copies of the proposed settlement may be examined at the Office of the United States Attorney for the District of Delaware, 1201 Market Street, Suite 1100, Wilmington, DE and the Region V Office of the United States Environmental Protection Agency, 77 West Jackson Street, Chicago, Illinois 60604. During the public comment period, the settlement may be viewed on the following Department of Justice Web site, http://www.usdoj.gov/enrd/open.html. A copy of the settlement also may be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $21.75 (25 cents per page reproduction cost) payable to the U.S. Treasury.

Thomas A. Mariani, Jr.,
Assistant Chief, Environmental Enforcement Section, Environment and Natural Resources Division.

[FR Doc. 03-28018 Filed 11-4-03; 2:38 pm]

BILLING CODE 4410-15-M